DEPARTMENT OF TRANSPORTATION

Office of the Secretary

14 CFR Parts 250 and 254

[Docket No. DOT-OST-2020-0251]

RIN 2105-AE81

Implementing Certain Provisions of the TICKETS Act and Revisions to Denied Boarding Compensation and Domestic Baggage Liability Limits

AGENCY: Office of the Secretary (OST), U.S. Department of Transportation (DOT).

ACTION: Final rule; correcting amendments.

SUMMARY: The U.S. Department of Transportation (Department or DOT) published a final rule to, among other things, raise the liability limits for denied boarding compensation that U.S. and foreign air carriers may impose from the current figures of $675 and $1,350 to $775 and $1,550. That final rule became effective on April 13, 2021. This document corrects an editorial error in the rule text of that final rule. This document also makes several technical corrections to the regulation regarding oversales reporting.

DATES: This final rule is effective August 2, 2021. The correcting amendment to 14 CFR 250.5(b)(3) reflecting the dollar amount is applicable beginning April 13, 2021.

FOR FURTHER INFORMATION CONTACT: Clereece Kroha, Senior Trial Attorney, Office of Aviation Consumer Protection, U.S. Department of Transportation, 1200 New Jersey Ave. SE, Washington, DC 20590, 202-366-9342, 202-366-7152 (fax), clereece.kroha@dot.gov (email). You may also contact Blane Workie, Assistant General Counsel, Office of Aviation Consumer Protection, Department of Transportation, 1200 New Jersey Ave. SE, Washington, DC 20590, 202-366-9342, 202-366-7152 (fax), blane.workie@dot.gov.

SUPPLEMENTARY INFORMATION:

Correction to 14 CFR 250.5(b)(3): In the final rule published in the Federal Register of Wednesday, January 13, 2021 (86 FR 2534), there was an error in a dollar figure in § 250.5(b)(3). This dollar figure was $1,350 prior to April 13, 2021, and the January 13, 2021 final rule revised this figure according the formula set forth in 14 CFR 250.5(e) and applicable inflation indexes. The January 13, 2021 final rule inadvertently did not revise this dollar figure in the rule text. The figuire should be “$1,550” instead of “$1,350.”

Corrections to 14 CFR 250.10: 14 CFR 250.10 required certain air carriers to submit, on a quarterly basis, the information related to passengers denied confirmed space as specified in the Department's Bureau of Transportation Statistics (BTS) “Form 251.” This rule makes several technical corrections to the rule text of § 250.10 to reflect the recent revisions to BTS Form titled “Report of Passengers Denied Confirmed Space.” ¹ Specifically, the form, previously named “Form 251,” is now named “Form 250.” Accordingly, this rule is changing all the references to “Form 251” in § 250.10 to “Form 250.” In addition, the form previously included reporting field “Total Boardings” on Line 7. On the revised form, the “Total Boardings” field is now on Line 6. This rule changes the reference of “Total Boardings” in “Line 7” in § 250.10 to “Line 6.”

¹ See, Notice of Submission of Proposed Information Collection to OMB; Agency Request for Revision of BTS Form 251 and Renewal of OMB Control Number 2138-0018: Part 250 of the Department's Economic Regulations—Oversales. 85 FR 86990, Dec. 31, 2020.

Section 553 of the Administrative Procedure Act (APA) (5 U.S.C. 553) provides that when an agency, for good cause, finds that notice and public procedure thereon are impractical, unnecessary, or contrary to the public interest, the agency may issue a final rule without providing notice and an opportunity for public comment (5 U.S.C. 553(b)(3)(B)). The Department has determined that there is good cause to issue these corrections to section 250.10 without notice and an opportunity for public comment because such notice and comment would be unnecessary. The technical changes made in this rule merely conform our regulations to reflect the changes to Form 250. The Department provided two notices and the opportunity for public comment on Form 250, consistent with the requirements of the Paperwork Reduction Act of 1995 (44 U.S.C. 3501 et seq.) (PRA) and its implementing regulations, 5 CFR part 1320.² These technical changes provided in this notice do not change or amend any requirements from the rule's previous requirements and is not expected to impact carriers' current practice. For the same reason, the corrections to § 250.10 are effective August 2, 2021.

² See, Notice of Submission of Proposed Information Collection to OMB, 85 FR 12668, March 3, 2020; Notice of Submission of Proposed Information Collection to OMB; Agency Request for Revision of BTS Form 251 and Renewal of OMB Control Number 2138-0018: Par 250 of the Department's Economic Regulations—Oversales, 85 FR 86990, December 31, 2020.

List of Subjects in 14 CFR Part 250

Air carriers, Consumer protection, Reporting and recordkeeping requirements.

Accordingly, 14 CFR part 250 is corrected by making the following amendments:

PART 250—OVERSALES

1. The authority citation for part 250 continues to read as follows:

Authority: 49 U.S.C. 329 and chapters 41102, 41301, 41708, 41709, and 41712.

§ 250.5 [Amended]

2. Section 250.5 is amended in paragraph (b)(3) by removing “$1,350” and adding “$1,550” in its place.

§ 250.10 [Amended]

3. Section 250.10 is amended by removing “Form 251” wherever it appears and adding “Form 250” in its place, and in paragraph (a) by removing “Line 7” and adding “Line 6” in its place.

Dated: July 26, 2021.
Issued under authority delegated in 49 CFR 1.27(c).
John E. Putnam,
Acting General Counsel.

[FR Doc. 2021-16196 Filed 7-30-21; 8:45 am]

BILLING CODE 4910-9X-P